DEPARTMENT OF ENERGY

Federal Energy Regulatory Commission

Combined Notice of Filings #1

Take notice that the Commission received the following electric rate filings:

Docket Numbers: ER10-3246-012; ER10-2475-018; ER10-2474-018; ER13-1266-014; ER11-2044-022.

Applicants: PacifiCorp, Nevada Power Company, Sierra Pacific Power Company, CalEnergy, LLC, MidAmerican Energy Company.

Description: Notice of Non-Material Change in Status of the BHE MBR Sellers.

Filed Date: 7/28/17.

Accession Number: 20170728-5155.

Comments Due: 5 p.m. ET 8/18/17.

Docket Numbers: ER16-1456-008.

Applicants: Talen Energy Marketing, LLC.

Description: Compliance filing: Compliance Filing Cancelling Reactive Tariff to be effective 12/1/2016.

Filed Date: 7/28/17.

Accession Number: 20170728-5073.

Comments Due: 5 p.m. ET 8/18/17.

Docket Numbers: ER17-215-000.

Applicants: Midcontinent Independent System Operator, Inc., Great River Energy, South Mississippi Electric Power Association.

Description: Report Filing: 2017-07-28_Submittal of ROE refund report in Docket No. EL14-12 to be effective N/A.

Filed Date: 7/28/17.

Accession Number: 20170728-5154.

Comments Due: 5 p.m. ET 8/18/17.

Docket Numbers: ER17-1712-001.

Applicants: Midcontinent Independent System Operator, Inc.

Description: Tariff Amendment: 2017-07-28_Amendment to Compensation for Manual Redispatch Filing to be effective 12/31/9998.

Filed Date: 7/28/17.

Accession Number: 20170728-5065.

Comments Due: 5 p.m. ET 8/18/17.

Docket Numbers: ER17-2038-002.

Applicants: Southwest Power Pool, Inc.

Description: Tariff Amendment: 2198R23 Kansas Power Pool NITSA NOA to be effective 9/1/2017.

Filed Date: 7/27/17.

Accession Number: 20170727-5179.

Comments Due: 5 p.m. ET 8/17/17.

Docket Numbers: ER17-2170-000.

Applicants: San Diego Gas & Electric Company.

Description: Baseline eTariff Filing: Palo Verde North Gila Line ANPP High Voltage Switchyard Interconnection Agreement to be effective 7/28/2017.

Filed Date: 7/27/17.

Accession Number: 20170727-5152.

Comments Due: 5 p.m. ET 8/17/17.

Docket Numbers: ER17-2171-000.

Applicants: Southern California Edison Company.

Description: § 205(d) Rate Filing: Amended LGIA Willow Springs Solar, LLC to be effective 7/28/2017.

Filed Date: 7/27/17.

Accession Number: 20170727-5153.

Comments Due: 5 p.m. ET 8/17/17.

Docket Numbers: ER17-2172-000.

Applicants: Southern California Edison Company.

Description: § 205(d) Rate Filing: Amended LGIA North Rosamond Solar, LLC to be effective 7/28/2017.

Filed Date: 7/27/17.

Accession Number: 20170727-5156.

Comments Due: 5 p.m. ET 8/17/17.

Docket Numbers: ER17-2173-000.

Applicants: Cedar Creek II, LLC.

Description: § 205(d) Rate Filing: Revised Market-Based Rate Tariff to be effective 9/27/2017.

Filed Date: 7/28/17.

Accession Number: 20170728-5059.

Comments Due: 5 p.m. ET 8/18/17.

Docket Numbers: ER17-2174-000.

Applicants: Southwest Power Pool, Inc.

Description: § 205(d) Rate Filing: 1139R5 Southwestern Public Service Company NITSA NOA to be effective 7/1/2017.

Filed Date: 7/28/17.

Accession Number: 20170728-5072.

Comments Due: 5 p.m. ET 8/18/17.

Docket Numbers: ER17-2175-000.

Applicants: Susquehanna Nuclear, LLC.

Description: Compliance filing: Baseline Reactive Tariff for Susquehanna Nuclear, LLC (ER16-1456) to be effective 12/1/2016.

Filed Date: 7/28/17.

Accession Number: 20170728-5167.

Comments Due: 5 p.m. ET 8/18/17.

Docket Numbers: ER17-2176-000.

Applicants: Brunner Island, LLC.

Description: Compliance filing: Baseline Reactive Tariff for Brunner Island, LLC (ER16-1456) to be effective 12/1/2016.

Filed Date: 7/28/17.

Accession Number: 20170728-5172.

Comments Due: 5 p.m. ET 8/18/17.

Docket Numbers: ER17-2177-000.

Applicants: Martins Creek, LLC.

Description: Compliance filing: Baseline Reactive Tariff for Martins Creek, LLC (ER16-1456) to be effective 12/1/2016.

Filed Date: 7/28/17.

Accession Number: 20170728-5181.

Comments Due: 5 p.m. ET 8/18/17.

Docket Numbers: ER17-2178-000.

Applicants: Montour, LLC.

Description: Compliance filing: Baseline Reactive Tariff for Montour, LLC (ER16-1456) to be effective 12/1/2016.

Filed Date: 7/28/17.

Accession Number: 20170728-5195.

Comments Due: 5 p.m. ET 8/18/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 28, 2017.
Nathaniel J. Davis, Sr.,
Deputy Secretary.

[FR Doc. 2017-16460 Filed 8-3-17; 8:45 am]

BILLING CODE 6717-01-P